DEPARTMENT OF COMMERCE

National Oceanic and Atmospheric Administration

Agency Information Collection Activities; Submission to the Office of Management and Budget (OMB) for Review and Approval; Comment Request; West Coast Region Groundfish Trawl Fishery Electronic Monitoring Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 16, 2025 during a 60-day comment period. This notice allows for an additional 30 days for public comments.

Agency: National Oceanic and Atmospheric Administration, Commerce.

Title: West Coast Region Groundfish Trawl Fishery Electronic Monitoring Program.

OMB Control Number: 0648-0785.

Form Number(s): None.

Type of Request: Regular submission [extension of a current information collection].

Number of Respondents: 866.

Average Hours per Response: Vessel operators: captain training 1.5 hr., logbook .17 hr., hard drive submission .17 hr.; Vessel owners: initial application 0.5 hr., final application 6.3 hr., updated application .17 hr., EM unit/installation, 4 hr., VMP 2 hr., EM system certification form .15, self-enforcing agreement 3 hr., change to VMP .5 hr., appeal 5 hr., renewal 1.5 hr., EM system maintenance 1 hr.; EM service provider: Application 8 hr., EM service plan 40 hr., 2 units 1 hr., copy of contracts 0.5 hr., other copies 0.5 hr., appeal 4 hr., change to EMSP 2 hr., renewal (biennial) 3 hr., EM system certification form 0.5 hr., reports 0.36 hr., technical assistance 0.2 hr., harassment etc. 1 hr., compliance reports 0.33 hr., catch reports 0.5 hr., feedback to vessel 0.3 hr., data storage 0.25 hr., debrief of EM staff 1.2 hr.

Total Annual Burden Hours: 3,651 hours.

Needs and Uses: This is a request for the renewal of an approved information collection. Under the authority of the Magnuson-Stevens Fishery Conservation and Management Reauthorization Act (16 U.S.C. 1801 et seq.), the Pacific coast groundfish fishery is managed under the Pacific Coast Groundfish Fishery Management Plan (FMP) by the National Marine Fisheries Service (NMFS) West Coast Region (WCR). One sector of the groundfish fishery has limited entry permits endorsed for trawl gear and is managed under a catch share program. The catch share program implemented requirements for 100 percent observer coverage at-sea and dockside to ensure full accountability for catch of allocated species and a level playing field for all participants. To provide a cost-effective alternative to human observer coverage, vessels may choose to use electronic monitoring (EM). EM uses video cameras and integrated sensors (e.g., global positioning system (GPS), motion sensor, and hydraulic pressure sensor) to passively monitor fishing activity at-sea. An analyst onshore can review the video and sensor data after the trip to collect information about location and amount of catch and fishing effort. EM has the potential to reduce monitoring costs because it does not require deploying a person on the vessel and the logistical and travel expenses that generates. This information collection includes a permit application and associated documents for EM service provider companies, a permit application and associated documents for vessels participating in EM, and a logbook and video hard drive submissions for participating vessels. The information is used to allow vessels to utilize EM in lieu of the 100% human observer requirement and for fishery catch accounting to occur according to regulations in place at 50 CFR 660 subpart J.

Affected Public: Individuals or households; Business or other for-profit organizations.

Frequency: On occasion and biennially.

Respondent's Obligation: Required to Obtain or Retain Benefits.

Legal Authority: The Magnuson-Stevens Fishery Conservation and Management Reauthorization Act (16 U.S.C. 1801 et seq.), 50 CFR part 660, subpart J.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0785.

Sheleen Dumas,
Departmental PRA Compliance Officer, Office of the Under Secretary for Economic Affairs, Commerce Department.

[FR Doc. 2025-22661 Filed 12-11-25; 8:45 am]

BILLING CODE 3510-22-P